DEPARTMENT OF COMMERCE

National Oceanic and Atmospheric Administration

Nomination of Existing Marine Protected Areas to the National System of Marine Protected Areas

AGENCY: NOAA, Department of Commerce (DOC).

ACTION: Public notice and opportunity for comment on the list of nominations received from Federal, State and territorial marine protected area programs to join the National System of Marine Protected Areas.

SUMMARY: NOAA and the Department of the Interior (DOI) invited Federal, State, commonwealth, and territorial marine protected areas (MPA) programs with potentially eligible existing MPAs to nominate their sites to the National System of MPAs (national system). The national system and the nomination process are described in the Framework for the National System of Marine Protected Areas of the United States (Framework), developed in response to Executive Order 13158 on Marine Protected Areas. The final Framework was published on November 19, 2008, (73 FR 69608) and provides guidance for collaborative efforts among Federal, State, commonwealth, territorial, Tribal and local governments and stakeholders to develop an effective and well coordinated national system of MPAs that includes existing MPAs meeting national system criteria as well as new sites that may be established by managing agencies to fill key conservation gaps in important ocean areas.

DATES: Comments on the nominations to the national system of MPAs are due February 22, 2010.

ADDRESSES: Comments should be sent to Joseph A. Uravitch, National Oceanic and Atmospheric Administration, National Marine Protected Areas Center, 1305 East West Highway, N/ORM, Silver Spring, MD 20910. Fax: (301) 713-3110. E-mail: mpa.comments@noaa.gov. Comments will be accepted in written form by mail, e-mail, or fax.

FOR FURTHER INFORMATION CONTACT: Lauren Wenzel, NOAA, at 301-713 3100, ext. 136 or via e-mail at mpa.comments@noaa.gov. An electronic copy of the list of nominated MPAs is available for download at http://www.mpa.gov.

SUPPLEMENTARY INFORMATION:

Background on National System

The national system of MPAs includes member MPA sites, networks and systems established and managed by Federal, State, Tribal and/or local governments that collectively enhance conservation of the nation's natural and cultural marine heritage and represent its diverse ecosystems and resources. Although participating sites continue to be managed independently, national system MPAs also work together at the regional and national levels to achieve common objectives for conserving the nation's important natural and cultural resources, with emphasis on achieving the priority conservation objectives of the Framework. Executive Order 13158 defines an MPA as: “any area of the marine environment that has been reserved by Federal, State, territorial, Tribal, or local laws or regulations to provide lasting protection for part or all of the natural and cultural resources therein.” As such, MPAs in the national system include sites with a wide range of protections, including multiple use areas that manage a broad spectrum of activities and no-take reserves where all extractive uses are prohibited. Although sites in the national system may include both terrestrial and marine components, the term MPA as defined in the Framework refers only to the marine portion of a site (below the mean high tide mark).

Benefits of joining the national system of MPAs, which are expected to increase over time as the system matures, include a facilitated means to work with other MPAs in the region, and nationally on issues of common conservation concern; fostering greater public and international recognition of MPAs, MPA programs, and the resources they protect; priority in the receipt of available technical support, MPA partnership grants with the National Fish and Wildlife Foundation, cooperative project participation, and other support for cross-cutting needs; and the opportunity to influence Federal and regional ocean conservation and management initiatives (such as integrated ocean observing systems, systematic monitoring and evaluation, targeted outreach to key user groups, and helping to identify and address MPA research needs). In addition, the national system provides a forum for coordinated regional planning about place-based conservation priorities that does not currently exist.

Joining the national system does not restrict or require changes affecting the designation process for new MPAs or management of existing MPAs. It does not bring State, territorial or local sites under Federal authority. It does not establish new regulatory authority or interfere with the exercise of existing agency authorities. The national system is a mechanism to foster great collaboration among participating MPA sites and programs to enhance stewardship in the waters of the United States.

Nomination Process

The Framework describes two major focal areas for building the national system of MPAs—a nomination process to allow existing MPAs that meet the entry criteria to become part of the system and a collaborative regional gap analysis process to identify areas of significance for natural or cultural resources that may merit additional protection through existing Federal, State, commonwealth, territorial, Tribal or local MPA authorities. The first call for nominations was issued in November 2008, resulting in the acceptance of 225 charter sites to the national system of MPAs in April 2009. The second nomination process for the national system began on August 7, 2009, when the National Marine Protected Areas Center (MPA Center) sent a letter to Federal, State, commonwealth, and territorial MPA programs inviting them to submit nominations of eligible MPAs to the national system. The initial deadline for nominations was November 6, 2009; this was extended to November 20, 2009.

There are three entry criteria for existing MPAs to join the national system, plus a fourth for cultural heritage. Sites that meet all pertinent criteria are eligible for the national system.

1. Meets the definition of an MPA as defined in the Framework.

2. Has a management plan (can be site-specific or part of a broader programmatic management plan; must have goals and objectives and call for monitoring or evaluation of those goals and objectives).

3. Contributes to at least one priority conservation objective as listed in the Framework.

4. Cultural heritage MPAs must also conform to criteria for the National Register for Historic Places.

The MPA Center used existing information in the MPA Inventory to determine which MPAs meet the first and second criteria. The inventory is online at http://www.mpa.gov/helpful_resources/inventory.html, and potentially eligible sites are posted online at http://mpa.gov/pdf/national-system/allsitesumsheet8O9.pdf. As part of the nomination process, the managing entity for each potentially eligible site is asked to provide information on the third and fourth criteria.

List of MPAs Nominated to the National System

The following 32 MPAs have been nominated by their managing programs to join the national system of MPAs. A list providing more detail for each site is available at http://www.mpa.gov.

Federal Marine Protected Areas

National Parks

Acadia National Park

Apostle Islands National Lakeshore

Buck Island Reef National Monument

Cabrillo National Monument

Canaveral National Seashore

Cape Cod National Seashore

Cape Hatteras National Seashore

Cape Lookout National Seashore

Fire Island National Seashore

Gateway National Recreation Area

Golden Gate National Recreation Area

Indiana Dunes National Lakeshore

Jean Lafitte National Historical Park and Preserve

Kalaupapa National Historical Park

Kaloko-Honokahau National Historical Park

National Park of American Samoa

Olympic National Park

Pictured Rocks National Lakeshore

Salt River Bay National Historical Park and Ecological Preserve

San Juan Islands National Historical Park

Sleeping Bear Dunes National Lakeshore

National Wildlife Refuges

Blackbeard Island National Wildlife Refuge

Harris Neck National Wildlife Refuge

Merritt Island National Wildlife Refuge

Pickney Island National Wildlife Refuge

Tybee National Wildlife Refuge

Wassaw National Wildlife Refuge

Wolf National Wildlife Refuge

Partnership Marine Protected Areas

Jobos Bay National Estuarine Research Reserve (Puerto Rico)

State Marine Protected Areas

North Carolina

Queen Anne's Revenge (Shipwreck)

Virgin Islands

East End Marine Park

Washington

San Juan County/Cypress Island Marine Biological Preserve

Review and Approval

Following this public comment period, the MPA Center will forward public comments to the relevant managing entity or entities, which will reaffirm or withdraw (in writing to the MPA Center) the nomination. After final MPA Center review, mutually agreed upon MPAs will be accepted into the national system and the List of National System MPAs will be posted at http://www.mpa.gov.

Dated: December 30, 2009.
David M. Kennedy,
Assistant Administrator for Ocean Service and Coastal Zone Management.

[FR Doc. E9-31406 Filed 1-6-10; 8:45 am]

BILLING CODE M